DEPARTMENT OF TRANSPORTATION

Federal Aviation Administration

Notice of Intent To Release Certain Properties From All Terms, Conditions, Reservations and Restrictions of a Quitclaim Deed Agreement Between the County of Palm Beach and the Federal Aviation Administration for the Palm Beach International Airport, West Palm Beach, FL

AGENCY: Federal Aviation Administration (FAA), DOT.

ACTION: Request for public comment.

SUMMARY: The FAA hereby provides notice of intent to release approximately 0.21 acres at the Palm Beach International Airport, West Palm Beach, FL from the conditions, reservations, and restrictions as contained in a Quitclaim Deed agreement between the FAA and the County of Palm Beach, dated March 22, 1961. The release of property will allow the County of Palm Beach to dispose of the property for other than aeronautical purposes. The property is located along Florida Mango and Belvedere Road. The parcels are currently designated as non-aeronautical use. The property will be released of its federal obligations to grant an easement for right-of-way and stormwater retention. The fair market value of the right-of-way parcel and stormwater retention parcel has been determined to be $83,860 and $74,320, respectively. Documents reflecting the Sponsor's request are available, by appointment only, for inspection at the Palm Beach County Department of Airports at Palm Beach International Airport and the FAA Airports District Office.

DATES: Comments are due on or before October 23, 2015.

ADDRESSES: Documents are available for review at the Palm Beach County Department of Airports at Palm Beach International Airport, and the FAA Airports District Office, 5950 Hazeltine National Drive, Suite 400, Orlando, FL 32822. Written comments on the Sponsor's request must be delivered or mailed to: Marisol C. Elliott, Program Manager, Orlando Airports District Office, 5950 Hazeltine National Drive, Suite 400, Orlando, FL 32822-5024.

FOR FURTHER INFORMATION CONTACT: Marisol C. Elliott, Program Manager, Orlando Airports District Office, 5950 Hazeltine National Drive, Suite 400, Orlando, FL 32822-5024.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

Issued in Orlando, Florida on September 14, 2015.
Bart Vernace,
Manager, Orlando Airports District Office, Southern Region.Revision Date 11/22/00

[FR Doc. 2015-24158 Filed 9-22-15; 8:45 a.m.]

BILLING CODE 4910-13-P